ENVIRONMENTAL PROTECTION AGENCY

[FRL-8316-2]

Gulf of Mexico Program Citizens Advisory Committee Meeting

AGENCY: Environmental Protection Agency (EPA).

ACTION: Notice of meeting.

SUMMARY: Under the Federal Advisory Committee Act (Pub. L. 92-463), EPA gives notice of a meeting of the Gulf of Mexico Program (GMP) Citizens Advisory Committee (CAC).

For information on access or services for individuals with disabilities, please contact Gloria Car, U.S.EPA, at (228) 688-2421 or car.gloria@epa.gov. To request accommodation of a disability, please contact Gloria Car, preferably at least 10 days prior to the meeting, to give EPA as much time as possible to process your request.

DATES: The meeting will be held on Tuesday, June 19, 2007, from 1 p.m. to 4:30 p.m. and Wednesday, June 20, 2007, from 8:30 a.m. to 12 p.m.

ADDRESSES: The meeting will be held at the River House, Stennis Space Center, Mississippi 39529, (228) 688-3726.

FOR FURTHER INFORMATION CONTACT: Gloria D. Car, Designated Federal Officer, Gulf of Mexico Program Office, Mail Code EPA/GMPO, Stennis Space Center, MS 39529-6000 at (228) 688-2421.

SUPPLEMENTARY INFORMATION: The proposed agenda includes the following topics: Gulf of Mexico Program Updates; Presentation on Liquified Natural Gas Facilities; Nature Conservancy Presentation; Priority Interests of the Citizens Advisory Committee; Citizens Advisory Committee membership status.

The meeting is open to the public.

Dated: May 10, 2007.
Gloria D. Car,
Designated Federal Officer.

[FR Doc. E7-9505 Filed 5-16-07; 8:45 am]

BILLING CODE 6560-50-P